DEPARTMENT OF THE INTERIOR

National Park Service

[NPS-WASO-NAGPRA-NPS0033143; PPWOCRADN0-PCU00RP14.R50000]

Notice of Inventory Completion: Illinois State Museum, Springfield, IL

AGENCY: National Park Service, Interior.

ACTION: Notice.

SUMMARY: The Illinois State Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Illinois State Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Illinois State Museum at the address in this notice by January 18, 2022.

FOR FURTHER INFORMATION CONTACT: Dr. Brooke Morgan, Illinois State Museum Research & Collections Center, 1011 East Ash Street, Springfield, IL 62703, telephone (217) 785-8930, email Brooke.Morgan@illinois.gov.

SUPPLEMENTARY INFORMATION: Notice is here given in accordance with the Native American Graves Protection and Repatriation Act (NAGPRA), 25 U.S.C. 3003, of the completion of an inventory of human remains and associated funerary objects under the control of the Illinois State Museum, Springfield, IL. The human remains and associated funerary objects were removed from the Aronin site, Grundy County, IL, and the Gougar site, Will County, IL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Illinois State Museum professional staff in consultation with representatives of the Citizen Potawatomi Nation, Oklahoma; Forest County Potawatomi Community, Wisconsin; Match-e-be-nash-she-wish Band of Pottawatomi Indians of Michigan; Pokagon Band of Potawatomi Indians, Michigan and Indiana; and the Prairie Band Potawatomi Nation [previously listed as Prairie Band of Potawatomi Nation, Kansas]. The Hannahville Indian Community, Michigan and the Nottawaseppi Huron Band of the Potawatomi, Michigan [previously listed as Huron Potawatomi, Inc.] were invited to consult but did not participate. Hereafter, the Indian Tribes listed in this section are referred to as “The Tribes”.

History and Description of the Remains

Sometime between 1970-1973, human remains representing, at minimum, nine individuals were removed from the Aronin site (11GR5), which is located on the east side of Aux Sable Creek in Grundy County, IL, near its confluence with the Illinois River and just west of the confluence of the Des Plaines and Kankakee Rivers. Documentation associated with this collection is sparse, but records indicate that the Aronin material was collected in the early 1970s, after burials were disturbed by heavy equipment operation during trenching. The construction was halted, archeologists were called to the scene to salvage the burials, and the recovered materials were subsequently donated to the Center for American Archeology in Kampsville, IL, for curation. In 2004, the Aronin site collection was transferred to the Illinois State Museum Research & Collections Center in Springfield, IL. The number of burials encountered in the early 1970s work is unclear. It is also unclear which objects can be associated with which burials, but all the objects listed in this notice are reasonably believed to be funerary objects.

Upon transfer to the Illinois State Museum, an osteologist documented the partial human skeletal remains and identified nine individuals of Native American ancestry. The human remains belong to one 13-16 year old adolescent of unknown sex (Individual A); one 8-10 year old adolescent of unknown sex (Individual B); one 6-7 year old adolescent of unknown sex (Individual C); one 35-45 year old adult male (Individual D); one 25-35 year old adult male (Individual E); one 3-12 year old adolescent of unknown sex (Individual F); one 0-1 year old infant of unknown sex (Individual G); one 20+ year old adult female (Individual H); and one probable adult male of unknown age (Individual I). No known individuals were identified. The 75 associated funerary objects include seven silver brooches or brooch fragments, 19 miniature silver brooches or pins attached to fabric, one lot wool fabric, two small silver bands, nine pieces of scrap silver, one wooden artifact fragment, four knife fragments, two steel strike-a-lights, one lot metal fragments, one limestone smoking pipe bowl fragment, one skunk mandible, four large mammal ribs, one modern large mammal bone fragment (which may be intrusive), 14 unmodified natural pebbles and concretions, two complete wide silver armbands, one fragment of a wide silver armband, one silver cross, one magnifying glass with metal frame, two silver pendants, and one silver button with birchbark attached.

Based on diagnostic trade items, early maps of the region, and other historic documentation, the Aronin site is most likely a late 18th-early 19th century Potawatomi cemetery and is probably affiliated with a nearby village at Aux Sable Creek. Four pieces of decorative silver were stamped or engraved with maker's marks. One of the pieces was made by Robert Cruickshank (ca. 1748-1809) and three of the pieces were made by Pierre Huguet Latour (1749-1817), both of whom were Montreal silversmiths. The three Latour items were likely produced between 1780 and 1816, when he was active as a silversmith. A small magnifying or burning glass with a brass frame resembles those known to date to ca. 1750-1800. Early maps of the region note the existence of a Potawatomi village on the west side of Aux Sable Creek (alternatively referred to as Au Sable River, Sandy Creek, Sandy River, or Sand River) around 1812. Thomas Forsyth, in a letter to William Clark on July 20, 1813, provided geographic information on Potawatomi and Kickapoo villages near the Illinois River, noting that “at Sandy Creek near the forks of Illinois River is Black Partridge and Pepper two Potawatomies [sic] Chiefs reside.” By 1812, Pepper had succeeded Little Chief as leader of the village at Aux Sable Creek. While Forsyth identified the Aux Sable Creek village as Potawatomi, in his May 31, 1812 letter to Ninian Edwards, John Hays claimed its population included Potawatomi, Chippewa, and Ottawa residents. Although the village has not been identified in the archeological record, it is reasonable to conclude the Aronin site represents a Potawatomi cemetery associated with Pepper's village at Aux Sable Creek.

In June or July 1969, human remains representing, at minimum, two individuals were removed from the Gougar site (11WI64), which is located on the south side of Hickory Creek in Will County, IL, east of Joliet, IL, in advance of road widening by the Illinois Department of Transportation. Salvage excavations were performed under the direction of Dr. Emily Blasingham of the Illinois State Museum. According to Blasingham's report, the area had been severely disturbed by previous digging, and only fragmentary remains of individuals and associated objects were recovered. In 1968, prior to the Illinois State Museum's salvage excavation, members of the Will County Historical Society removed six burials and associated funerary objects. In September of 1969, the Society reinterred the six individuals, as well as two additional individuals, on property owned by the Joliet Park District, where they remain to this day. The materials collected by the Illinois State Museum salvage excavation were thought to be lost, until they were located at the Glenn A. Black Laboratory at Indiana University in 2009. In 2009, the collection was returned to the Illinois State Museum. It is unclear which objects can be associated with which individuals, but the objects listed in this notice are reasonably believed to be funerary objects. The human remains in the Illinois State Museum's collection have been identified as fragments belonging to the human remains that were reinterred on Joliet Park District property.

The partial human remains were examined by an osteologist. Based on contextual information, they were identified as belonging to two individuals of Native American ancestry: One 20+ year old adult of unknown sex and one 0-3 year old infant of unknown sex. No known individuals were identified. The 17 associated funerary objects include one lot glass beads, two shell beads, one lot shells, one metal brooch fragment, one tinkling cone or ear bob, one lot metal/stone/fabric, two lots fabric/textiles, one bone or antler button, one lot knife fragments, one lot wood and sediment, one lot wood or bark, and four lots metal.

The artifacts are consistent with other late 18th-early 19th century Potawatomi sites in northern Illinois. Maps of ca. 1830 Native American villages in the region show a Potawatomi village referred to as “Hickory Creek Settlement” that may correspond with the Gougar location. Based on artifact types, historic documentation, and oral history, Gougar likely represents a Potawatomi habitation site and cemetery that predates 1830, at which time the property was settled by Euro-Americans.

Determinations Made by the Illinois State Museum

Officials of the Illinois State Museum have determined that:

• Pursuant to 25 U.S.C. 3001(9), the human remains described in this notice represent the physical remains of eleven individuals of Native American ancestry.

• Pursuant to 25 U.S.C. 3001(3)(A), the 92 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Brooke Morgan, Illinois State Museum Research & Collections Center, 1011 East Ash Street, Springfield, IL 62703, telephone (217) 785-8930, email brooke.morgan@illinois.gov, by January 18, 2022. After that date, if no additional requestors have come forward, transfer of control of the human remains and associated funerary objects to The Tribes may proceed.

The Illinois State Museum is responsible for notifying The Tribes that this notice has been published.

Dated: December 10, 2021.
Melanie O'Brien,
Manager, National NAGPRA Program.

[FR Doc. 2021-27360 Filed 12-16-21; 8:45 am]

BILLING CODE 4312-52-P